DEPARTMENT OF AGRICULTURE

Rural Business-Cooperative Service

Request for Proposals: Fiscal Year 2005 Funding Opportunity for 1890 Land Grant Institutions Rural Entrepreneurial Program Outreach Initiative

AGENCY: Rural Business-Cooperative Service, USDA.

ACTION: Initial notice.

SUMMARY: The Rural Business-Cooperative Service (RBS) announces the availability of a yet undetermined amount of funding in competitive cooperative agreement funds allocated from USDA Rural Development's fiscal year (FY) 2005 salaries and expense budget. A separate notice will be published when the funding level has been determined. RBS hereby requests proposals from 1890 Land Grant Universities and Tuskegee University (1890 Institutions) for competitively awarded cooperative agreements for projects that support USDA Rural Development's goals and objectives of providing technical assistance for business creation in economically challenged rural communities, for educational programs to develop and improve upon the professional skills of rural entrepreneurs, and for outreach and promotion of USDA Rural Development's programs in small rural communities with the greatest economic need. Project proposals must be designed to overcome currently identified economic problems and lead to sustainable economic development. Project proposals that address both traditional and nontraditional business enterprises are encouraged. This initiative seeks to create a working partnership between USDA Rural Development and the 1890 Institutions through cooperative agreements. A cooperative agreement requires substantial involvement of the government agency in carrying out the objectives of the project.

Cooperative agreements will be awarded to the project proposals receiving the highest scores as determined by a peer review panel of USDA employees knowledgeable of the subject matter. Awards will be made to the extent that funds are available; however, USDA Rural Development is making no commitment to fund any particular project proposal or to make a specific number of awards. Eligible applicants must provide matching funds equal to at least 25 percent of the total project costs.

This Notice sets forth the information required lists the information needed to submit an application for these funds.

DATES: Applications must be submitted by 4 p.m., eastern time on August 29, 2005. Proposals received after 4 p.m. eastern time on August 29, 2005, will not be considered for funding.

ADDRESSES: You may obtain application guides and materials for the 1890 Land Grant Institutions Rural Entrepreneurial Outreach and Development Initiative at the following Internet Address: http://www.rurdev.usda.gov/rbs/oa/1890.htm or by contacting Mr. Edgar L. Lewis, Program Manager, Rural Business-Cooperative Service, USDA, Mail Stop 3252, 1400 Independence Avenue SW., Washington, DC 20250-3252. Telephone: (202) 690-3407, E-mail: edgar.lewis@usda.gov.

Final paper applications for an 1890 Land Grant Institutions Rural Entrepreneurial Program Outreach Initiative cooperative agreement may be submitted via the Postal Service to Cooperative Programs, Attention: 1890 Land Grant Institutions Rural Entrepreneurial Program Outreach Initiative Program, USDA, Mail Stop 3250, 1400 Independence Ave., SW., Washington, DC 20250, or UPS, Federal Express, or similar delivery service to Cooperative Programs, Attention: 1890 Land Grant Institutions' Rural Entrepreneurial Program Outreach Initiative Program, USDA Room 4016, 1400 Independence Ave., SW., Washington, DC 20250. The phone number that should be used for FedEX or similar packages is (202) 720-7558.

Submit electronic cooperative agreement applications using the Grants.gov Web site at http://www.grants.gov.

FOR FURTHER INFORMATION CONTACT: Mr. Edgar L. Lewis, Program Manager, Rural Business-Cooperative Service, USDA, Stop 3252, Room 4221, 1400 Independence Avenue SW., Washington, DC 20250-3252. Telephone:(202) 690-3407, E-mail: edgar.lewis@usda.gov, or visit the program Web site at http://www.rurdev.usda.gov/rbs/oa/1890.htm.

SUPPLEMENTARY INFORMATION:

Overview

Federal Agency: Rural Business-Cooperative Service (RBS).

Funding Opportunity Title: 1890 Land Grant Institutions Rural Entrepreneurial Outreach and Development Initiative.

Announcement Type: Initial Announcement.

Catalog of Federal Domestic Assistance (CFDA) Number: 10.856.

Key Dates: Cooperative agreement applications must be received by 4 p.m. eastern time, August 29, 2005. Proposals received after 4 p.m., August 29, 2005, will not be considered for funding.

I. Funding Opportunity Description

This solicitation is issued pursuant to 7 U.S.C. 2204b(b)(4) and Executive Order 13256 (February 12, 2002), “President's Board of Advisors on Historically Black Colleges and Universities.”

Several other Federal statutes and regulations apply to project proposals considered for review and to cooperative agreements awarded. These include, but are not limited to:

7 CFR part 15, subpart A—Nondiscrimination in Federally Assisted Programs of the Department of Agriculture—Effectuation of Title VI of the Civil Rights Act of 1964.

7 CFR part 3015—Uniform Federal Assistance Regulations.

7 CFR part 3017—Governmentwide Debarment and Suspension (Nonprocurement).

7 CFR part 3018—New Restrictions on Lobbying.

7 CFR part 3019—Uniform Administrative Requirements for Grants and Agreements with Institutions of Higher Education, Hospitals, and Other Non-Profit Organizations.

7 CFR part 3021—Governmentwide Requirements for Drug-Free Workplace (Financial Assistance).

7 CFR part 3052—Audits of States, Local Governments, and Non-Profit Organizations.

RBS was established under the authority of the Department of Agriculture Reorganization Act of 1994. The mission of RBS is to enhance the quality of life for rural Americans by providing leadership in building competitive businesses including sustainable cooperatives that can prosper in the global marketplace. RBS meets these goals by investing financial resources and providing technical assistance to cooperatives and other businesses located in rural communities and establishing strategic alliances and partnerships that leverage public, private, and cooperative resources to create jobs and stimulate rural economic activity.

The primary purposes of the 1890 Land Grant Institutions Rural Entrepreneurial Program Outreach Initiative are to encourage 1890 Institutions to provide technical assistance for business creation in economically challenged rural communities, to conduct educational programs that develop and improve upon the professional skills of rural entrepreneurs, and to provide outreach and promote USDA Rural Development programs in small rural communities with the greatest economic need. Project proposals must be designed to overcome currently identified economic problems and lead to sustainable economic development. Project proposals that address both traditional and nontraditional business enterprises are encouraged.

RBS will use cooperative agreements with the 1890 Institutions to strengthen the capacity of these communities to undertake innovative, comprehensive, citizen-led, long-term strategies for community and economic development. The cooperative agreements will be for an outreach and development effort to promote Rural Development programs in targeted underserved rural communities and shall include, but not be limited to:

(a) Developing a business startup program including technical assistance, to assist new cooperatives and other businesses with new business development, business planning, franchise startup and consulting, business expansion studies, marketing analysis, cash flow management, and seminars and workshops for cooperatives and small businesses;

(b) Developing management and technical assistance plans that will:

(1) Assess cooperative and small business alternatives to traditional agricultural and other natural resource based industries;

(2) Assist in the development of business plans or loan packages, marketing, or bookkeeping; and

(3) Assist and train cooperatives and small businesses in customer relations, product development, or business planning and development.

(c) Assessing local community weaknesses and strengths, feasible alternatives to agricultural production, and the necessary infrastructure to expand or develop new or existing businesses;

(d) Providing community leaders with advice and recommendations regarding best practices in community economic development stimulus programs for their communities;

(e) Conducting seminars to disseminate information to stimulate business and economic development in selected rural communities; and

(f) Conducting outreach through use of computer technology and maintaining an internet web presence which links community leaders and residents to available economic development information.

Funds may not be used to: (a) Pay costs of preparing the application package; (b) fund political activities; (c) pay costs prior to the effective date of the cooperative agreement; (d) provide for revolving funds; (e) do construction; (f) conduct any activities where there is or may appear to be a conflict of interest; or (g) purchase real estate.

II. Awards

Program awards will be made through cooperative agreements between RBS and the 1890s Institutions receiving the highest scores on their project proposals. The maximum amount of Federal funds awarded for any one proposal will be $100,000.

If an applicant is to receive an award that is less than the amount requested, the applicant will be required to modify the application to conform to the reduced amount before execution of the cooperative agreement. RBS reserves the right to reduce or de-obligate any award if acceptable modifications are not submitted by the awardee(s) within 10 working days from the date the application is returned to the applicant. Any modification must be within the scope of the original application.

Throughout the project period, USDA Rural Development's continued commitment to advance funds will be conditioned upon evidence of satisfactory progress by the recipient (as documented in certified acceptable quarterly progress and financial reports), and the determination that continued funding is in the best interest of U.S. Government.

III. Eligibility Requirements

1. Applicant Eligibility

To be eligible for an award under this program, an applicant must:

(a) Be an 1890 Institution which includes: Alabama A&M University; University of Arkansas-Pine Bluff; Delaware State University; Florida A&M University; Fort Valley State University; Kentucky State University; Southern University and A&M College; University of Maryland-Eastern Shore; Alcorn State University; Langston University; North Carolina A&T State University; Lincoln University (Missouri); South Carolina State University; Tennessee State University; Prairie View A&M University; Virginia State University; and West Virginia State University; and Tuskegee University. RBS will accept only one application per institution under this program. In the event that more than one application is submitted, the 1890 Institution's president will determine the official application for consideration;

(b) Demonstrate that the personnel assigned to the project have the expertise and experience necessary to fulfill the tasks set forth in the project proposal. Applicants should demonstrate a previous record of successful implementation of similar projects;

(c) Demonstrate expertise in the use of computer technologies to provide technical assistance and access to Internet web sites; and

(d) Submit a completed application as set forth in Section IV.3.

An applicant may subcontract with organizations not eligible to apply provided such organizations are necessary for the conduct of the project. However, the subcontracted amount may not exceed one-third of the total Federal award.

2. Project Eligibility

To be eligible for an award under this program, an applicant must:

(a) Demonstrate that the project eligible beneficiaries are located in a rural area as defined in 7 U.S.C. 1991(a)(13)(A) with a demonstrated economic need. Eligible beneficiaries must also be located in communities that show significant community support for the proposal;

(b) Provide matching funds equal to at least 25 percent of the total project costs; and

(c) Establish and maintain an internet web presence linked to the USDA Rural Development web site. This web site should contain links to additional economic development function that will benefit residents and community leaders.

3. Rural Area Definition

Rural underserved targeted counties/communities must be an area other than a city or town that has a population of greater than 50,000 inhabitants and the urbanized area contiguous and adjacent to such a city or town, as defined by the U.S. Bureau of Census using the latest decennial census of the United States.

4. Matching Funds

Matching funds may be provided by either the applicant or third party in the form of either cash or in-kind contributions and must be from non-Federal funds. Matching funds must be spent in proportion to the spending of funds received from the cooperative agreement. Applicants must verify in their applications that matching funds are available for the time period of the cooperative agreement.

IV. Application Process

1. Application Packages

If an institution plans to apply using a paper application, application packages, including the required forms for this funding opportunity, may be obtained from http://www.rurdev.usda.gov/rbs/oa/1890.htm. If an institution does not have access to the Internet, or if it is having difficulty accessing the forms online, it may contact the RBS at (202) 690-3407 or FAX (202) 690-2723. The application forms and instructions may also be requested via e-mail by sending a message with the contact person's name, mailing address, and phone number to edgar.lewis@wdc.usda.gov. The application forms and instructions will be mailed as quickly as possible. When calling or e-mailing RBS, please indicate that you are requesting application forms and instructions for FY 2005 1890 Land Grant Institutions Rural Entrepreneurial Outreach and Development Initiative.

If an institution plans to apply electronically, the forms must be obtained from http://www.grants.gov.

2. Application Submission

Applications must be received in the RBS National Office by 4 p.m. eastern time on August 29, 2005. Proposals received after 4 p.m. eastern time on August 29, 2005, will not be considered for funding. The applicant assumes the risk of any delay in proposal delivery. Applicants are strongly encouraged to submit completed applications electronically or via overnight mail or delivery service to ensure timely receipt by RBS. Receipt of all applications will be acknowledged by e-mail. Therefore, applicants are strongly encouraged to provide accurate e-mail addresses. If the applicant does not receive an acknowledgment within 7 work days of the submission deadline, please contact the program manager. If RBS receives your application after the deadline due to: (a) Carrier error, when the carrier accepted the package with guarantee for delivery by the closing date and time, or (b) Significant weather delays or natural disaster, you will be given the opportunity to document these problems. RBS will consider the application as having been received by the deadline if your documentation meets these requirements and verifies the delay was beyond your control. Applications submitted via facsimile will not be accepted.

An institution may submit its application in paper or in an electronic format. If a paper application is submitted, a signed original and two copies of the completed application must be submitted. The original and 2 copies must include all required forms, certifications, assurances, project proposal document, and appendices, be signed by an authorized representative of the institution, contain original signatures, and be submitted unbound.

A paper application submitted via the Postal Service must be addressed to Cooperative Programs, Attention: 1890 Land Grant Institutions' Rural Entrepreneurial Program Outreach Initiative Program, USDA, Mail Stop 3250, 1400 Independence Ave., SW., Washington, DC 20250. A paper application submitted via UPS, Federal Express, or similar delivery service must be addressed to Cooperative Programs, Attention: 1890 Land Grant Institutions' Rural Entrepreneurial Program Outreach Initiative Program, USDA Room 4016, 1400 Independence Ave., SW., Washington, DC 20250. The phone number to be used for FedEX or similar packages is (202) 720-7558.

If an application is submitted electronically, the application must be submitted at http://www.grants.gov. Applicants are advised to visit the site well in advance of the application deadline if they plan to apply electronically to insure that they have obtained the proper authentication and have sufficient computer resources to complete the application.

All Federal grant applicants must provide a Dun and Bradstreet Data Universal Numbering System (DUNS) number when applying for Federal grants and cooperative agreements. The DUNS number is required whether an applicant is submitting a paper application or using the government-wide electronic portal Grants.gov. A DUNS number is required for every application for a new award or renewal/continuation of an award, including applications or plans under formula, entitlement and block grant programs, submitted on or after October 1, 2003. Please ensure that your institution has a DUNS number. An institution may acquire a DUNS number at no cost by calling the dedicated toll-free DUNS number request line on 1-866-705-5711 or on-line at http://www.dnd.com.

If an institution's application does not contain a DUNS number field, please write the DUNS number at the top of the first page of the application, and/or include the DUNS number in the application cover letter.

3. Completed Application

To be eligible for funding, an application must contain all of the following elements. Any application that is missing any element or contains an incomplete element will not be considered for funding.

(a) Completed forms.

(1) Form SF-424, “Application for Federal Assistance.”

(2) Form SF-424A, “Budget Information—Non-Construction Programs,” including Sections A, B, C, and D. The applicant must include both federal and matching funds.

(3) Form SF-424B, “Assurances—Non-Construction Programs.”

(4) Form AD-1047, “Certification Regarding Debarment, Suspension, and Other Responsibility Matters—Primary Covered Transactions.”

(5) Form AD-1049, “Certification Regarding Drug-Free Workplace Requirements.”

(b) Letters of support.

(c) Table of Contents: For ease of locating information, each proposal must contain a detailed Table of Contents immediately following the required forms. The Table of Contents should include page numbers for each component of the proposal. Pagination should begin immediately following the Table of Contents. Provide page numbers in the Table of Contents where each evaluation criterion is addressed.

(d) Project Executive Summary: A summary of the Project Proposal, not to exceed one page.

(e) Project Proposal: The application must contain a narrative statement describing the nature of the proposed project. Each of the proposal evaluation criteria referenced in this funding announcement must be addressed, specifically and individually in narrative form. The proposal must include at least the following:

(1) Project Title Page. The Title Page must include the following: Title of the project, names of principal investigators, and applicant organization.

(2) Introduction. A concisely worded justification or rationale for the proposal must be presented. Summarize the social and economical statistical data (income, population, employment rate, poverty rate, education attainment, etc.), for the project area that substantiates the need for the initiative. Specify, whether the target area includes an Empowerment Zone/Enterprise Community, Champion Community, Federally-recognized Indian reservation or other Federally declared economic disaster area. An applicant should address the “Economic Need of Community” evaluation criterion in Section VII.1.(c).

(3) Workplan. Discuss the approach (strategy) to be used in carrying out the proposed project outreach and achieving the proposed objectives. Address the “Statement of Work” evaluation criterion in Section VII.1.(e). A description of any subcontracting arrangements to be used in carrying out the proposed project must be included. The workplan also must include:

(i) Overview: Identify and discuss the specific goals and objectives of the proposed project and its impact on the proposed beneficiaries;

(ii) Timeframes: Develop a tentative timeline for completing the major tasks outlined in the project proposal;

(iii) Milestones: Describe and quantify the expected outcomes of the proposed project, including the businesses created, professionals trained, jobs created or assisted, conferences and seminars conducted, and number of participants, loans packaged, etc.;

(iv) Recipient involvement: Identify the person(s) responsible for performing the project tasks; and

(v) USDA Rural Development involvement: Identify USDA Rural Development responsibilities for assisting and monitoring project tasks;

(4) Estimated Budget. Provide a detailed budget justification, showing both federal and applicant's matching funds, including in-kind contributions. Provide a budget to support the work plan showing all sources and uses of funds during the project period. Detail and document both cash and in-kind by sources. Note that only goods and services for which no expenditure is made can be considered in-kind. If the applicant is paying for the goods and services as part of the matching funds contribution, the expenditure is considered a cash match, and should be verified as such.

(5) Certification of Matching Funds. Certify that matching funds will be available at the same time Federal funds are anticipated to be spent and that matching funds will be spent in advance of Federal funding, such that for every dollar of Federal funds advanced or reimbursed, the applicant will have spent no less in proportion to the spending of Federal funds received from the cooperative agreement prior to submitting the request for reimbursement or advance. Please note that this certification is a separate requirement from the verification of Matching Funds requirement.

(6) Leveraging Funds. Discuss in narrative form how the institution will use other Federal, State, private, and other sources of funds and resources to leverage the proposed project.

(7) Coordination and Management Plan. Describe how the project will be coordinated among the various participants, the nature of the collaborations and benefits to participants, the communities, the applicant, and Rural Development. Describe your plans for the management of the project to ensure its proper and efficient administration. Describe the scope of Rural Development's involvement in the project.

(8) Technology Outreach. The project proposal must address the applicant's ability to deliver computer technology to the targeted rural communities and maintain computer Internet Web sites linking community leaders and residents to available economic development information. Address the “Digital Technology Outreach” evaluation criterion in this Section VII.1.(f).

(9) Key Personnel Support. Provide the curriculum vitae for the key personnel used to carry out the goals and objectives of the proposal.

(10) Facilities or Equipment. Identify where the project will be located (housed) and what additional equipment is needed or already available to carry out the specific objectives of the project.

(11) Previous Accomplishments. Summarize the institution's previous outreach and development accomplishments work funded by USDA Rural Development or similar outreach or development experiences. This is especially important for first time applicants. Address the “Previous Accomplishments” evaluation criterion in Section VII.1.(d).

(12) Local and USDA Rural Development State Office Support. Provide letters of support from the local community such as businesses, educational institutions, local governments, community-based organizations, etc. Letters of support should demonstrate commitments for tangible resources and or assistance. Include any letter from the appropriate USDA Rural Development State Office evidencing its opportunity for input into your proposal and its involvement. Identify and discuss tangible support contained in the letters.

(13) Additional information. Provide any additional information that demonstrates commitment for tangible resources and or that supports your proposal. Additionally you are encouraged to provide any strategic plan that has been developed to assist cooperative and business development or entrepreneurship for the targeted communities.

V. Intergovernmental Review of Applications

Executive Order 12372 does apply to this program.

VI. Funding Restrictions

Based on Section 708 of Title 7 Consolidated Appropriations Act 2004, (Pub. L. 108-199) “No funds appropriated by this Act may be used to pay negotiated indirect cost rates on cooperative agreements or similar arrangements between the United States Department of Agriculture and nonprofit institutions in excess of 10 percent of the total cost of the agreement when the purpose of such cooperative arrangement is to carry out programs of mutual interest between the two parties.” Other funding restrictions are identified in Section III.

VII. Application Review

1. Criteria—Project proposals will be evaluated using the following seven criteria. Each criterion is given the weight value shown with total points equal to 100. The points assigned provide an indication of the relative importance of each section and will be used by the reviewers in evaluating the proposals. Points do not have to be awarded for each criterion. After all proposals have been evaluated, the Administrator may award an additional 10 discretionary points to any proposal to obtain the broadest geographic distribution of the funds, ensure a broad diversity of project proposals, or ensure a broad diversity in the size of the awards.

(a) Support of Local Community (Up to 10 points)—This criterion evaluates the support of local government, educational, community, and business groups. Higher points will be awarded for proposals demonstrating broad support from all components of the communities served, particularly cooperative groups. Broad support is demonstrated by tangible contributions, such as providing volunteers, computers, or transportation or co-sponsoring workshops and conferences. Points will be awarded based on the level of tangible contribution in comparison to the size of the award. Tangible support must be stated in letters from supporting entities.

(b) Matching Funds/Leveraging (Up to 10 points)—This criterion evaluates the extent to which the institution has the capacity to support the project with matching funds and leveraging additional funds and resources from State, private, public and non-profit sources to carry out this outreach and development initiative.

A maximum of 10 points will be awarded based upon the amount the proposal exceeds the minimum 25 percent matching requirement. Applicants will be required to provide matching funds or equivalent in-kind in support of this project. Evidence of matching funds availability must be provided. Funds or equivalent in-kind must be available at the time at which the cooperative agreement is entered. Matching funds points will be awarded as listed below.

>25 percent to 35 percent match | 2 points.
>35 percent to 50 percent match | 5 points.
>50 percent to 75 percent match | 7 points.
>75 percent match | 10 points.

(c) Economic Need of Community (Up to 15 points)—This criterion evaluates the economic need of the targeted communities.

Five points will automatically be awarded to project proposals with at least one of the beneficiary communities located in a targeted community(s): Empowerment Zones, Enterprise Communities, Champion Communities, Federally-recognized Indian reservations, and other federally declared economic depressed or disaster areas. The application must state the name(s) and location(s) of the economically depressed community(s) and the type(s) of targeted community designation (i.e., Empowerment Zone).

Up to a maximum of 7 additional points will be awarded for demonstrated economic need based upon the currently available poverty rate of the targeted local community(s). An applicant may use targeted county or community poverty rates. When multi-community proposals are submitted, the over-all weighted average for all counties or communities must be used. An applicant must use current (2000 Census) poverty data for each targeted county or community. Points will be awarded based upon the differences in the targeted county or community's average poverty from the respective State poverty rate (average targeted county or community poverty rate minus the respective State poverty rate). Percents will be rounded to the next whole number.

Less than 3 percent | 0 points.
3-6 percent | 1 point.
7-10 percent | 2 points.
11-15 percent | 5 points.
Greater than 15 percent | 7 points.

Up to a maximum of 3 additional points may be awarded based upon the applicant's ability to demonstrate or identify other economic needs of the targeted communities, such as, but not limited to, unemployment rates, education levels, and job availability. An applicant must provide sufficient information for the panel to properly evaluate and rate this criterion.

(d) Previous Accomplishments (Up to 10 points)—This criterion evaluates the applicant's previous accomplishments with this initiative and/or its demonstrative capacity to conduct similar projects.

One point will be awarded to an institution for each year it has been awarded a cooperative agreement under this program up to a total of 5 years. An applicant must provide evidence of satisfactorily completing the cooperative agreement for each year for which credit is claimed. Applicants with less than 5 recent years of awards in this program may receive up to the maximum 5 points by highlighting the applicant's previous performance in each of the past 5 years on projects with cooperative and other business development and outreach objectives. The applicant should discuss the potential impact of their project upon the targeted underserved rural communities, as well as describing previous similar outreach and development work.

Up to a maximum of 5 additional points may be awarded based upon an applicant's ability to document the positive impact of its project upon the targeted underserved rural communities. Positive entrepreneurial developments should be emphasized. Points will be awarded if an applicant demonstrates that its technical assistance resulted in the creation of a business(s) in an economically challenged community or that its educational programs have developed or improved upon the professional skills of rural entrepreneurs. The applicant must provide specific information as to the specific businesses created and/or professional educational programs offered.

(e) Statement of Work (up to 45 points)—This criterion evaluates the degree to which the proposed project addresses the major purposes for the “1890 Land Grant Institutions Rural Entrepreneurial Program Outreach Initiative.” Points will be awarded according to the degree to which the statement of work reflects innovative strategies for providing technical assistance for business creation in economically challenged rural communities, for educational programs to develop and improve upon the professional skills of rural entrepreneurs, and for outreach and promotion of USDA Rural Development's.

Up to a maximum of 20 points will be awarded to proposed projects that have a clearly and concisely stated work plan detailing goals and objectives, timetables, expected results, and measurable outcomes for providing technical assistance for business creation in economically challenged rural communities. The greatest number of points will be awarded to those proposed projects that demonstrate innovative and creative ways to accomplish these goals.

Up to a maximum of 15 additional points will be awarded to proposed projects that have a clearly and concisely stated work plan detailing goals and objectives, timetables, expected results, and measurable outcomes for educational programs to develop and improve upon the professional skills of rural entrepreneurs (i.e.; sustainable agricultural practices, real estate sales, real estate appraising, accounting for small entrepreneurs, etc.) The greatest number of points will be awarded to those proposed projects that demonstrate innovative and creative ways to accomplish these goals.

Up to a maximum of 10 additional points will be awarded to proposed projects for outreach and promotion of USDA Rural Development's programs in small rural communities with the greatest economic need. The greatest number of points will be awarded to those proposed projects that demonstrate innovative and creative ways to accomplish these goals.

All proposals must integrate substantial USDA Rural Development involvement.

(f) Digital Technology Outreach (Up to 5 points)—This criterion evaluates the applicant's experience and capacity to provide outreach and assistance to targeted underserved rural communities through use of computer technologies.

A maximum of 5 points will be awarded based upon the applicant's demonstrated capacity to promote innovations and improvements in the delivery of computer technology benefits, including a web presence to underserved rural communities whose share in these benefits is disproportionably low.

(g) Coordination and Management of the Project (Up to 5 points)—This criterion evaluates the applicant's demonstrated capacity to coordinate and manage the proposed project among the various stakeholders.

Up to a maximum of 5 points will be awarded based upon the applicant's ability to demonstrate broad and collaborative involvement with the applicant's respective USDA Rural Development State Office on the proposed project. This involvement and collaboration should include, but not be limited to: (1) Evidence of any USDA Rural Development State Office's input in and review of the applicant's proposal, (2) a detailed plan for the State Office's continued participation in the proposed project that includes specific participatory tasks, and (3) a detailed plan as to how Rural Development programs can be integrated into the proposed project.

2. Selection Process

Each application will be evaluated in a two-part process. First, each application will be reviewed to ensure that both the applicant and project meet the eligibility requirements as set forth in Section III. All applicants deemed to be eligible will be scored based upon the criteria set forth in Section VII.(1). Each eligible application will be scored by at least two expert reviewers. The individual scores for each application will be tallied and applications receiving the highest scores will be recommended to the Administrator, RBS, for award. The RBS Administrator has the final authority to award discretionary points in accordance with Section VII.(1) and determine the applications to be funded. If a tie score results after the proposals have been rated and ranked, the tie will be resolved by the proposal with the largest matching funds as a percent of the Federal amount of the award being selected for award.

VIII. Award Administration

1. Award Notification

Upon completion of the review process, successful applicants will be notified, in writing, by the USDA Rural Development National Office of its award. Each successful applicant will receive a cooperative agreement for signature by the institution's president or designee. The document will become binding upon execution by the appropriate USDA official.

Unsuccessful applicants will be notified, in writing, of the results of review.

2. Advance of Funds Requirements

Requests for advance of funds must be submitted to the National Office on a quarterly basis on a completed Form SF-270, “Request for Advance or Reimbursement.” A completed Form SF-269 (Long Form), “Financial Status Report,” must be submitted with each advance of funds request.

3. Project Reviews

USDA Rural Development State Office representatives will conduct semi-annual onsite reviews of award recipients as well as any additional reviews deemed necessary by the National Office.

4. Reporting Requirements

During the term of the cooperative agreement, each award recipient must submit quarterly progress reports and a final report detailing the tasks performed and results accomplished to the National and appropriate State Office. Quarterly reports must be submitted on or prior to January 31, April 28, and July 28, and October 31, 2006. A final report must be submitted within 90 days of the date of the project's completion. Reports may be submitted in hard copy original or an electronic copy that includes all required signatures. Failure to submit satisfactory, timely reports may result in suspension or termination of award.

Upon the request of USDA Rural Development, the award recipient will submit manuscripts, videotapes, software, or other media, as were identified in project proposals. USDA Rural Development retains those rights delineated in 7 CFR 3019.36.

5. Administrative Requirements

Award Recipients are responsible for:

(a) Completing the objectives as defined in the proposed workplan.

(b) Maintaining up-to-date project records during the term of the agreement.

(c) Maintaining an accounting of Federal and matching fund expenditures, including in-kind contributions. Award recipients must submit to the National Office a completed Form SF-269 (Long Form) with each advance of funds request and within 90 days of the project's completion.

(d) Immediately refunding to USDA Rural Development, at the end of the agreement, any balance of unobligated funds received from USDA Rural Development.

(e) Providing matching funds or equivalent in-kind in support of the project, at least to the level agreed to in the accepted proposal.

(g) Participating in the Annual or Bi-annual USDA Rural Development Entrepreneurship and Information Conferences/Workshops when planned.

(h) In cooperation with local businesses, developing a program of cooperative and business startup and technical assistance that will assist with new company development, business planning, new enterprise, franchise startup and consulting, business expansion studies, marketing analysis, cashflow management, and seminars and workshops for cooperatives and small businesses.

(i) Providing office space, equipment, and supplies for all personnel assigned to the project.

(j) Developing management and technical assistance plans in cooperation with USDA Rural Development State Office that will:

(1) Assess cooperative and small business alternatives to agriculture, and other natural resources-based industries;

(2) Assist in the development of business plans and loan packages, marketing, bookkeeping assistance, and organizational sustainability; and

(3) In cooperation with USDA Rural Development State Office, provide technical assistance and training in customer relations, product development, and business planning and development.

(k) Assessing local community needs, weaknesses and strengths, feasible alternatives to agriculture production, and the needed infrastructure to expand or develop new or existing businesses. The plans for any such studies must be submitted to the USDA Rural Development National office for approval prior to the study being conducted.

(l) In cooperation with the USDA Rural Development State Office, providing community leaders with advice and recommendations regarding best practices in community economic development stimulus programs for their communities.

(m) Developing digital technology outreach and establishing and maintaining an Internet web site, linking community leaders and residents to available economic development information.

(n) Assuring and certifying that it is in compliance with, and will comply in the course of the agreement with, all applicable laws, regulations, Executive Orders, and other generally applicable requirements, including those set out in 7 CFR parts 3015 and 3019.

(o) Using Federal funds only to pay meeting-related travel expenses when employees are performing a service of direct benefit to the Government and in direct furtherance of the objectives of the proposed agreement. Federal funds cannot be used to pay non-Federal employees to attend meetings.

(p) Not commingling or using program funds for administrative expenses to operate an intermediary relending program (IRP).

(q) Submitting to USDA Rural Development National Office, in writing, any request for revising the project work plan, budget, or requesting a no-cost extension amending the cooperative agreement.

(r) Assisting the USDA Rural Development State Office in conducting a semi-annual on-site review of the recipient's project.

(s) Collaborating, as needed, with the USDA Rural Development National and State Offices in performing the tasks in the agreement and providing the Rural Development National Office with the information necessary for Rural Development to fulfill its responsibilities in the agreement.

USDA Rural Development is responsible for:

(1) Monitoring the program as it is being implemented and operated, including monitoring of financial information to ensure that there is no commingling or use of program funds for administrative expenses to operate an IRP or other unapproved items.

(2) Terminating activity, after written notice, if tasks are not met.

(3) Reviewing and approving changes to key personnel.

(4) Providing technical assistance as needed.

(5) Approving the final plans for any community business workshops; cooperative, business, and economic development sessions; and training workshops to be conducted by the recipient.

(6) Providing reference assistance, as needed, to the recipient for technical assistance given on a one-on-one basis to entrepreneurs and startup businesses.

(7) Reviewing and commenting on strategic plans developed by recipients for targeted areas.

(8) Reviewing economic assessments made by the recipient for targeted counties enabling USDA Rural Development to determine the extent to which its programs are beneficial.

(9) Carefully screening projects to prevent First Amendment violations.

(10) Monitoring the program to ensure that a web site link to USDA-Rural Development is established and maintained.

(11) State Offices conducting semi-annual on-site reviews and submitting written reports to the National Office.

(12) Participating in 1890 outreach and development program workshops, seminars and conferences as needed.

(13) Providing any other work agreed to by USDA Rural Development in the Cooperative Agreement.

IX. Agency Contact

For Further Information Contact: Mr. Edgar L. Lewis, Program Manager, Rural Business-Cooperative Service, USDA, Stop 3252, Room 4221, 1400 Independence Avenue, SW., Washington, DC 20250-3252. Telephone: (202) 690-3407, e-mail: edgar.lewis@wdc.usda.gov.

X. Paperwork Reduction Act

The paperwork burden associated with this initiative has been cleared by the Office of Management and Budget under OMB Control Number 0570-0041.

Dated: July 7, 2005.
David Rouzer,
Acting Administrator, Rural Business-Cooperative Service.

[FR Doc. 05-13752 Filed 7-12-05; 8:45 am]

BILLING CODE 3410-XY-P